DEPARTMENT OF ENERGY

Federal Energy Regulatory Commission

[Docket No. RP00-209-001]

Transcontinental Gas Pipe Line Corporation; Notice of Tariff Filing

March 16, 2000.

Take notice that on March 10, 2000 Transcontinental Gas Pipe Line Corporation (Transco) tendered for filing as part of its FERC Gas Tariff, Third Revised Volume No. 1, Substitute Thirteenth Revised Sheet No. 44. The proposed effective date of the enclosed tariff sheet is April 1, 2000.

Transco states that the purpose of the instant filing is to supplement Transco's Fuel Tracker Filing of March 1, 2000 (March 1 Filing), which inadvertently reflected an incorrect Deferred GRO Amount for March, 99 in Appendix B, Page 2, attached to the filing. Transco is submitting revised workpapers to correct the Deferred GRO Amount reflected in the March 1 Filing. The result of the revised Deferred GRO Amount is a reduction in the System Transportation fuel retention percentage in Zone 4 from 1.91% to 1.90%.

Transco states that is serving copies of the instant filing to its affected customers, State Commissions and other interested parties.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filings are on file with the Commission and are available for public inspection in the Public Reference Room. This filing may be viewed on the web at http://www.ferc.fed.us/online/rims.htm (call 202-208-2222 for assistance).

David P. Boergers,
Secretary.

[FR Doc. 00-7026 Filed 3-21-00; 8:45 am]

BILLING CODE 6717-01-M